DEPARTMENT OF THE INTERIOR

Fish and Wildlife Service

[FWS-R1-R-2012-N171; 1265-0000-10137-S3]

Rose Atoll National Wildlife Refuge, American Samoa; Draft Comprehensive Conservation Plan and Environmental Assessment

AGENCY: Fish and Wildlife Service, Interior.

ACTION: Notice of availability; announcement of meetings; request for comments.

SUMMARY: We, the U.S. Fish and Wildlife Service (Service), announce the availability of our Draft Comprehensive Conservation Plan and Environmental Assessment (Draft CCP/EA) for the Rose Atoll National Wildlife Refuge (NWR/refuge) for public review and comment. In the Draft CCP/EA, we present two alternatives for managing this refuge for the next 15 years, as well as related compatibility determinations for the preferred alternative.

DATES: To ensure consideration, please send your written comments by November 9, 2012. We will hold public meetings; see Public Meetings under SUPPLEMENTARY INFORMATION for dates, times, and locations.

ADDRESSES: You may submit comments or view or obtain copies of the Draft CCP/EA by any of the following methods. You may request a hard copy or CD-ROM.

Agency Web site: www.fws.gov/pacific/planning or http://www.fws.gov/roseatoll/planning.html.

Email: FW1PlanningComments@fws.gov. Include “Rose Atoll National Wildlife Refuge Draft CCP/EA” in the subject line of the message.

Mail: Rose Atoll National Wildlife Refuge/Marine National Monument, c/o National Park Service, Pago Pago, AS 96799.

Fax: Attn: Refuge/Monument Manager, 684-699-3986.

In-Person Viewing or Pickup: Rose Atoll National Wildlife Refuge/Marine National Monument, c/o National Park Service, Pago Pago, AS 96799.

For more information on locations for viewing or obtaining documents, see Public Availability of Documents under SUPPLEMENTARY INFORMATION.

FOR FURTHER INFORMATION CONTACT: Frank Pendleton, Refuge/Monument Manager, (684) 633-7082, ext. 15.

SUPPLEMENTARY INFORMATION:

Introduction

With this notice, we announce the availability of our Draft CCP/EA for Rose Atoll NWR. We started this process through a notice of intent (NOI) in the Federal Register (74 FR 57701; November 9, 2009).

Rose Atoll NWR is located in American Samoa and was established in 1973 to conserve and protect fish and wildlife resources.

Background

The CCP Process

The National Wildlife Refuge System Administration Act of 1966, as amended by the National Wildlife Refuge System Improvement Act of 1997 (together referred to as the Refuge Administration Act), 16 U.S.C. 668dd-668ee, requires us to develop a CCP for each national wildlife refuge. The purpose for developing a CCP is to provide refuge managers with a 15-year plan for achieving refuge purposes and contributing toward the National Wildlife Refuge System mission, consistent with sound principles of fish and wildlife management, conservation, legal mandates, and our policies. We will review and update the CCP at least every 15 years in accordance with the Administration Act.

Public Outreach

We began the public scoping phase of the CCP planning process by publishing the NOI, which was followed by a series of public open houses in November 2009. Simultaneously, we released Planning Update 1, which identified initial issues for scoping. Planning Update 2 was released in May 2011 and identified the issues raised during public scoping that would be considered in the CCP process. We also met individually with partner agencies, elected officials, and others in the community. We considered all of the public comments received to date during development of the Draft CCP/EA.

Draft CCP Alternatives We Are Considering

During our CCP planning process, we identified several issues. To address these issues, we developed and evaluated the following alternatives in our Draft CCP/EA.

Alternative A (No Action)

Under Alternative A, existing refuge management activities would continue, including protection, maintenance, and restoration of habitats that support priority species, such as seabirds, shorebirds, turtles, native plants, reef fish, invertebrates, and coralline algae. Management activities include monitoring, pest species management, and restoration projects, such as the removal of debris from a 1993 shipwreck. The refuge is closed to the general public, and entry is limited to those who have been issued a special use permit (SUP).

Alternative B (Preferred Alternative)

Under Alternative B, enhanced habitat restoration, monitoring, and outreach are proposed. Increasing the frequency of management trips to the refuge and fortifying close partnerships with the American Samoa Government, National Oceanic and Atmospheric Administration, National Park Service, U.S. Geological Survey, and other partners are key to this alternative. A remote sensing system would be set up to monitor nesting seabirds, turtles, and other wildlife. Restoration of the littoral forest on Rose Island by extirpating introduced ants and the scale insect (Pulvenaria urbicola), and propagating native forest trees would be explored. More frequent visits would allow for improved law enforcement oversight and compliance, and remote sensing would also provide better management and documentation of any unauthorized entry into the refuge. The refuge would remain closed to the general public, with entry only allowed via SUP.

Refuge staff would provide outreach and interpretation opportunities and develop an environmental education program focusing on “bringing the refuge to the people.” Appropriate cultural practices would also be facilitated through expanding refuge management activities related to cultural resources (e.g., working with the American Samoa Historical Preservation Office and other partners to conduct archaeological surveys at Rose Atoll NWR, integrating cultural resources into interpretation, and increasing dialogue with the Office of Samoan Affairs and local villagers).

Public Availability of Documents

In addition to any methods in ADDRESSES, you can view or obtain documents at the Feleti Barstow Public Library, Ofu Community Center, and other places of public access (e.g., stores on Ta'ū) in American Samoa.

Public Meetings

We will hold the following public meetings: October 16, 2012, at Sadie's by the Sea at 2 p.m.; October 23, 2012, at the Ofu Community Center at 9 a.m.; October 23, 2012, at the Ta'ū High School gym at 2 p.m. For more information on the meeting(s), contact the person under FOR FURTHER INFORMATION CONTACT.

Next Steps

After this comment period ends, the planning team will evaluate your comments and consider their incorporation into the final CCP.

Public Availability of Comments

Before including your address, telephone number, email address, or other personal identifying information (PII) in your comment, you should be aware that your entire comment—including your PII—may be made publicly available at any time. While you can ask us in your comment to withhold your PII from public review, we cannot guarantee that we will be able to do so.

Dated: August 9, 2012.
Richard Hannan,
Acting Regional Director, Pacific Region, Portland, Oregon, U.S. Fish and Wildlife Service.

[FR Doc. 2012-24597 Filed 10-5-12; 8:45 am]

BILLING CODE 4310-55-P